DEPARTMENT OF VETERANS AFFAIRS

Clinical Science Research and Development Service Cooperative Studies Scientific Merit Review Board; Notice of Meeting

The Department of Veterans Affairs (VA) gives notice under Public Law 92-463 (Federal Advisory Committee Act) that a meeting of the Clinical Science Research and Development Service Cooperative Studies Scientific Merit Review Board will be held on November 2-3, 2005, at the Sheraton National Hotel—Arlington, 900 South Orme Street, Arlington, VA 22204. The sessions are scheduled to begin at 8 a.m. and end at 3 p.m.

The Board advises the Chief Research and Development Officer through the Director of the Clinical Science Research and Development Service on the relevance and feasibility of proposed studies, the adequacy of the protocols, and the scientific validity and propriety of technical details, including protection of human subjects.

The sessions each day will open to the public from 8 a.m. to 8:30 a.m. for the discussion of administrative matters and the general status of the program. The sessions will be closed from 8:30 a.m. to 3 p.m. for the Board's review of research and development applications.

During the closed sessions of the meeting, discussions and recommendations will deal with qualifications of personnel conducting the studies, staff and consultant critiques of research proposals and similar documents, and the medical records of patients who are study subjects, he disclosure of which would constitute a clearly unwarrantwed invasion of personal privacy. As provided by section 10(d) of Public Law 92-463, as amended, closing portions of this meeting is in accordance with 5 U.S.C. 552b(c)(6) and (c)(9)(B).

Those who plan to attend should contact Dr. Grant Huang, Assistant Director, Cooperative Studies Program (125), Department of Veterans Affairs, 810 Vermont Avenue, NW., Washington, DC 20420, at (202) 254-0183.

Dated: October 13, 2005.
By direction of the Secretary.
E. Philip Riggin,
Committee Management Officer.

[FR Doc. 05-21015 Filed 10-19-05; 8:45 am]

BILLING CODE 8320-01-M